DEPARTMENT OF HEALTH AND HUMAN SERVICES

Food and Drug Administration

[Docket No. 2003N-0508]

Agency Information Collection Activities; Submission for Office of Management and Budget Review; Comment Request; Focus Groups as Used by the Food and Drug Administration

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by April 8, 2004.

ADDRESSES: OMB is still experiencing significant delays in the regular mail, including first class and express mail, and messenger deliveries are not being accepted. To ensure that comments on the information collection are received, OMB recommends that written comments be faxed to the Office of Information and Regulatory Affairs, OMB, Attn: Fumie Yokota, Desk Officer for FDA, FAX: 202-395-6974.

FOR FURTHER INFORMATION CONTACT: JonnaLynn P. Capezzuto, Office of Management Programs (HFA-250), Food and Drug Administration, 5600 Fishers Lane, Rockville, MD 20857, 301-827-4659.

SUPPLEMENTARY INFORMATION: In compliance with 44 U.S.C. 3507, FDA has submitted the following proposed collection of information to OMB for review and clearance.

Focus Groups as Used by the Food and Drug Administration—(OMB Control Number 0910-0497)—Extension

FDA will collect and use information gathered through the focus group vehicle. This information will be used to develop programmatic proposals, and as such, compliments other important research findings to develop these proposals. Focus groups do provide an important role in gathering information because they allow for a more in-depth understanding of consumers' attitudes, beliefs, motivations, and feelings than do quantitative studies.

Also, information from these focus groups will be used to develop policy and redirect resources, when necessary, to our constituents. If this information is not collected, a vital link in information gathering by FDA to develop policy and programmatic proposals will be missed causing further delays in policy and program development.

FDA estimates the burden for completing the forms for this collection of information in table 1 of this document.

The total annual estimated burden imposed by this collection of information is 2,830 hours annually.

In the Federal Register of November 24, 2003 (68 FR 65938), FDA published a 60-day notice requesting public comment on the information collection provisions. No comments were received.

Table 1.—Estimated Annual Reporting Burden¹
Center | Subject | No. of Focus Groups per Study | No. of Focus Groups Sessions Conducted Annually | No. of Participants per Group | Hours of Duration for Each Group (includes screening) | Total Hours
Center for Biologics Evaluation and Research | May use focus groups when appropriate | 1 | 5 | 9 | 1.58 | 71
Center for Drug Evaluation and Research | Varies (e.g., direct-to-consumer Rx drug promotion, physician labeling of Rx drugs, medication guides, over-the-counter drug labeling, risk communication | 10 | 100 | 9 | 1.58 | 1,422
Center for Devices and Radiological Health | Varies (e.g., FDA Seal of Approval, patient labeling, tampons, on-line sales of medical products, latex gloves | 4 | 16 | 9 | 2.08 | 300
Center for Food Safety and Applied Nutrition | Varies (e.g., food safety, nutrition, dietary supplements, consumer education) | 8 | 40 | 9 | 1.58 | 569
Center for Veterinary Medicine | Varies (e.g., animal nutrition, supplements, labeling of animal Rx) | 5 | 25 | 9 | 2.08 | 468
Total |  | 28 | 186 |  | 1.78 | 2,830
¹ There are no capital costs or operating and maintenance costs associated with this collection of information.

Annually, FDA projects about 28 focus group studies using 186 focus groups lasting an average of 1.78 hours each. FDA has allowed burden for unplanned focus groups to be completed so as not to restrict the agency's ability to gather information on public sentiment for its proposals in its regulatory as well as other programs.

Dated: March 2, 2004.
Jeffrey Shuren,
Assistant Commissioner for Policy.

[FR Doc. 04-5194 Filed 3-8-04; 8:45 am]

BILLING CODE 4160-01-S